CONSUMER PRODUCT SAFETY COMMISSION

Sunshine Act Meeting

Agency: Consumer Product Safety Commission.

Time and Date: Tuesday, November 4, 2003; 10 a.m.

Location: Room 420, Bethesda Towers, 4330 East West Highway, Bethesda, Maryland.

Status: Open to the public.

Matters to be Considered:

Decision on Petition HP 01-3—Chromated Copper Arsenate (CCA) Treated Wood in Playground Equipment

The Commission will consider Petition HP 01-3 from the Environmental Working Group and the Healthy Building Network requesting a ban on the use of chromated copper arsenate (CCA) treated wood in playground equipment

For a recorded message containing the latest agenda information, call (301) 504-7948.

Contact Person for Additional Information: Todd A. Stevenson, Office of the Secretary, 4330 East West Highway, Bethesda, MD 20207 (301) 504-7923.

Dated: October 24, 2003.
Todd A. Stevenson,
Secretary.

[FR Doc. 03-27283 Filed 10-24-03; 2:32 pm]

BILLING CODE 6533-01-M